DEPARTMENT OF HEALTH AND HUMAN SERVICES

Centers for Disease Control and Prevention

[60Day-02-29]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: National Healthcare Safety Network (NHSN)—New—National Center for Infectious Disease (NCID), Centers for Disease Control and Prevention (CDC). In 1970, OMB first approved the information collection now known as the “National Nosocomial Infections Surveillance (NNIS) System” (OMB No. 0920-0012) and in 1999 approved the “Surveillance for Bloodstream and Vascular Access Infections in Outpatient Hemodialysis Centers” (OMB No. 0920-0442). These two data collections have been modified and merged to create the NHSN and constitute the first phase of this national surveillance system to collect data on adverse events associated with healthcare. The NHSN will evolve with the addition of modules and healthcare institutions from a wide spectrum of settings.

The NHSN is a knowledge system for accumulating, exchanging, and integrating relevant information and resources among private and public stakeholders to support local and national efforts to protect patients and to promote healthcare safety. Specifically, the data will be used to determine the magnitude of various healthcare-associated adverse events and trends in the rates of these events among patients with similar risks. They will be used to detect changes in the epidemiology of adverse events resulting from new and current medical therapies and changing patient risks.

Healthcare institutions that participate in NHSN voluntarily report their data to CDC through the National Electronic Disease Surveillance System that uses a web browser-based technology for data entry and data management. Data are collected by trained surveillance personnel using written standardized protocols. The cost to participating institutions is the salaries of data collector and data entry personnel, a computer capable of supporting an internet service provider (ISP), and access to an ISP. The amount expended for annual salaries will vary widely depending on the module(s) selected. Salaries will range from approximately $940.00 for collection of dialysis incident data to $3500.00 for collection of bloodstream infections data using the Device-associated Module in 2 ICUs. The table below shows the estimated annual burden in hours to collect and report data by form for the entire NHSN project. The estimated annualize cost to respondents will be $6,900.

Title | Number of respondents | Number of responses/respondent | Avg. burden per response (in hours) | Total Burden (in hours)
NHSN Application Annual Survey | 350 | 1 | 1 | 350
Dialysis Application/Annual Survey | 80 | 1 | 1 | 80
Patient Safety Monthly Reporting Plan | 350 | 9 | 25/60 | 1,313
Patient Data | 350 | 111 | 5/60 | 3,238
Surgical Site Infection (SSI) | 200 | 27 | 25/60 | 2,250
Pneumonia (PNEU) | 200 | 54 | 25/60 | 4,500
Primary Bloodstream Infection (BSI) | 230 | 54 | 25/60 | 5,175
Urinary Tract Infection (UTI) | 150 | 45 | 25/60 | 2,813
Dialysis Incident (DI) | 80 | 90 | 12/60 | 1,440
Custom Event (not reported to CDC) | 125 |  |  |
Denominator for Procedure | 200 | 540 | 5/60 | 9,000
Denominator for Specialty Care Area (SCA) | 75 | 9 | 5 | 3,375
Denominator for Neonatal Intensive Care Unit (NICU) | 100 | 9 | 4 | 3,600
Denominator for Intensive Care Unit (ICU)/Other locations (Not NICU or SCA) | 245 | 18 | 5 | 22,050
Denominator for Outpatient | 80 | 9 | 5/60 | 60
Antimicrobial Use and Resistance (AUR)—Microbiology Lab | 20 | 45 | 3 | 2,700
Antimicrobial Use and Resistance (AUR)— Pharmacy | 20 | 36 | 2 | 1,440
Total |  |  |  | 63,384

Dated: February 28, 2002.
Julie Fishman,
Acting Deputy Director for Policy, Planning and Evaluation, Centers for Disease Control and Prevention.

[FR Doc. 02-5396 Filed 3-6-02; 8:45 am]

BILLING CODE 4163-18-P